COMMITTEE FOR PURCHASE FROM PEOPLE WHO ARE BLIND OR SEVERELY DISABLED

Procurement List; Additions and Deletion

AGENCY: Committee for Purchase From People Who Are Blind or Severely Disabled.

ACTION: Additions to and deletion from the Procurement List.

SUMMARY: This action adds products and a service to the Procurement List that will be furnished by nonprofit agencies employing persons who are blind or have other severe disabilities, and delete a product from the Procurement List previously furnished by such agency.

DATES: Effective Date: 12/13/2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 9/3/2010 (75 FR 54115) and 9/17/2010 (75 FR 56995-56996), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Undershirts, Extreme Cold Weather Clothing System (Layer 2), Gen III

NSN: 8415-01-538-8598—Undershirt, Midweight Cold Weather, Gen III Size S.

NSN: 8415-01-538-8614—Undershirt, Midweight Cold Weather, Gen III Size M-R.

NSN: 8415-01-538-8621—Undershirt, Midweight Cold Weather, Gen III Size L.

NSN: 8415-01-538-8701—Undershirt, Midweight Cold Weather, Gen III Size L-L.

NSN: 8415-01-538-8705—Undershirt, Midweight Cold Weather, Gen III Size XL.

NSN: 8415-01-538-8711—Undershirt, Midweight Cold Weather, Gen III Size XL-L.

NSN: 8415-01-546-0124—Undershirt, Midweight Cold Weather, Gen III Size XS-S.

NSN: 8415-01-546-0128—Undershirt, Midweight Cold Weather, Gen III Size XS-R.

NSN: 8415-01-546-0160—Undershirt, Midweight Cold Weather, Gen III Size S-S.

NSN: 8415-01-546-0166—Undershirt, Midweight Cold Weather, Gen III Size S-L.

NSN: 8415-01-546-0305—Undershirt, Midweight Cold Weather, Gen III Size M-L.

NSN: 8415-01-546-0362—Undershirt, Midweight Cold Weather, Gen III Size XL-XL.

NSN: 8415-01-546-0369—Undershirt, Midweight Cold Weather, Gen III Size XXL-R.

NSN: 8415-01-546-0370—Undershirt, Midweight Cold Weather, Gen III Size XXL-L.

NSN: 8415-01-546-0374—Undershirt, Midweight Cold Weather, Gen III Size XXL-XL.

NPAs: Bestwork Industries for the Blind, Inc., Runnemede, NJ. Westmoreland County Blind Association, Greensburg, PA.

Contracting Activity: DEFENSE LOGISTICS AGENCY TROOP SUPPORT, PHILADELPHIA, PA.

Coverage: C-List for 25% of the requirement of the Department of Defense, as aggregated by the Defense Logistics Agency Troop Support, Philadelphia, PA.

Service

Service Type/Location: Property Management Service, National Park Service Horace M. Albright Training Center, 1 Albright Avenue, Grand Canyon, AZ.

NPA: Trace, Inc., Boise, ID.

Contracting Activity: DEPT OF THE INTERIOR, NATIONAL PARK SERVICE, DENVER SERVICE CENTER (DSC), DENVER, CO.

Deletion

On 9/17/2010 (75 FR 56995-56996), the Committee for Purchase From People Who Are Blind or Severely Disabled published notice of proposed deletion from the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

NSN: 7510-01-510-4857—Looseleaf Binder, 3-Ring, Black 1/2”.

NPA: South Texas Lighthouse for the Blind, Corpus Christi, TX.

Contracting Activity: GSA/FEDERAL ACQUISITION SERVICE, NEW YORK, NY.

Barry S. Lineback,
Director, Business Operations.

[FR Doc. 2010-28623 Filed 11-12-10; 8:45 am]

BILLING CODE 6353-01-P